DEPARTMENT OF TRANSPORTATION

Pipeline and Hazardous Materials Safety Administration

[Docket: RSPA-98-4957]

Request for Public Comments and Office of Management and Budget (OMB) Approval of an Existing Information Collection (2137-0601)

AGENCY: Office of Pipeline Safety, Pipeline and Hazardous Materials Safety Administration, Department of Transportation (DOT).

SUMMARY: This notice requests public participation in the Office of Management and Budget (OMB) approval process regarding the renewal of an existing PHMSA/Office of Pipeline Safety (OPS) collection of information for Operator Qualification of Pipeline Personnel. PHMSA is requesting OMB approval for renewal of this information collection under the Paperwork Reduction Act of 1995 and 5 CFR part 1320. The public is invited to submit comments over the next 60 days on ways to minimize the burden associated with collection of information related to the pipeline safety reports of abandoned underwater pipelines

DATES: Comments must be submitted on or before October 11, 2005.

ADDRESSES: Comments should reference Docket No. RSPA-98-4957 and may be submitted in the following ways:

• DOT Web Site: http://dms.dot.gov. Follow the instructions for submitting comments on the DOT electronic docket site.

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.Regulations.gov. This site allows the public to enter comments on any Federal Register notice issued by any agency.

Instructions: You should identify the docket number, RSPA-98-4957, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number. Note: All comments will be posted without changes or edits to http://dms.dot.gov including any personal information provided.

Privacy Act Statement: Anyone may search the electronic form of all comments received for any of our dockets. You may review DOT's complete Privacy Act Statement in the Federal Register published on April 11, 2000 (Volume 65, Number 70; Pages 19477-78) or you may visit http://dms.dot.gov.

FOR FURTHER INFORMATION CONTACT: William Fuentevilla at (202) 366-6199, or by e-mail at William.Fuentevilla@dot.gov.

SUPPLEMENTARY INFORMATION: Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, in including the use of automated collection techniques of other forms of information technology.

Congress expressed concern with unskilled pipeline personnel in the Pipeline Safety and Reauthorization Act of 1988 (Pub. L. 100-561). This act authorized the Secretary of Transportation to require all individuals responsible for the operation and maintenance of pipeline facilities to be properly qualified to safely perform their tasks. The operator qualification requirements are described in the pipeline safety regulations at 49 CFR Part 192, subpart N and 49 CFR Part 195, subpart G. PHMSA/Office of Pipeline Safety (OPS) seeks to extend an existing collection of information for Operator Qualification of Pipeline Personnel. PHMSA/OPS published the initial notice requesting public comment on April 18, 2002 (67 FR 19312-13).

This information collection supports the DOT strategic goal of safety by reducing the number of fatalities, injuries, and amount of property damage.

As used in this notice, “information collection” includes all work related to preparing and disseminating information related to this recordkeeping requirement including completing paperwork, gathering information and conducting telephone calls.

Type of Information Collection Request: Renewal of Existing Collection.

Title of Information Collection: Operator Qualification of Pipeline Personnel.

Respondents: Gas and hazardous liquid pipeline operators.

Estimated Number of Respondents: 22,300.

Estimated Number of Responses per Respondent: 1.

Estimated Total Annual Burden on Respondents: 466,667 hours.

Issued in Washington DC on August 5, 2005.
Florence L. Hamn,
Director, Office of Regulations.

[FR Doc. 05-15954 Filed 8-10-05; 8:45 am]

BILLING CODE 4910-60-P